DEPARTMENT OF THE INTERIOR

Bureau of Land Management

[NV-025-1232-EA-NV06; Special Recreation Permit #NV-025-03-01]

Notice of Intent to Temporarily Close Public Lands: Pershing County and Washoe County, NV

AGENCY: Bureau of Land Management, Winnemucca Field Office, Nevada, Interior.

ACTION: Notice to the public of temporary public lands closures and prohibition of certain activities on public lands administered by the Bureau of Land Management, Winnemucca Field Office, Nevada.

SUMMARY: Notice is hereby given that certain lands would be temporarily closed or restricted, and certain activities would be temporarily prohibited, in and around the Burning Man event site, Pershing and Washoe counties, Nevada, for camping, vehicle use, fire use, and aircraft landing from 0600 hours, August 22, 2003, to 2200 hours, September 1, 2003. Certain lands would be temporarily closed or restricted, and certain activities would be temporarily prohibited, in the Winnemucca District in Pershing and Washoe Counties, Nevada, for fireworks use and firearms use from 0600 hours, August 11, 2003, to 2200 hours, September 15, 2003. A closure to all public uses would be in effect inside and within 50 yards outside the perimeter fence surrounding the event from August 22, 2003 to September 1, 2003. These closures, restrictions and prohibitions are in the interest of public safety on public lands at and around the location of an event known as Burning Man; a Special Recreation Permit (SRP) event authorized by the Bureau of Land Management in the same vicinity every year but one since 1990. This event is expected to attract approximately 29,000 participants this year. The lands involved are located in northwestern Nevada partly within the Black Rock Desert-High Rock Canyon Emigrant Trails National Conservation Area.

Public Camping Surrounding the Event is Prohibited in the Following Areas: T33N, R24E: W½Sec1; Sec2; Sec3; Sec4; Sec9; Sec10; Sec11; W½Sec12; N½NW¼Sec15; N½Sec16; and T33½N, R24E: Sec33; Sec34; Sec35; W½Sec36. These areas are closed during the event period, August 22, 2003 to September 1, 2003, with the exception of defined camping areas designated and provided by the Black Rock City LLC, an authorized “pilot camp” and BLM-authorized event management-related camps.

Operation of Motorized Vehicles at a Rate of Speed that Causes a Dust Plume higher than the Roof of the Vehicle, is Prohibited in the Following Areas: T33N, R24E: W½Sec1; Sec2; Sec3; Sec4; Sec9; Sec10; Sec11; W½Sec12; N½NW¼Sec15; N½Sec16; and T33½N, R24E: Sec33; Sec34; Sec35; W½Sec36. These areas are closed during the event period, August 22, 2003 to September 1, 2003, with the exception of BLM, medical, law enforcement, firefighting vehicles and Burning Man staff as designated by the BLM Authorized Officer.

Operation of Motorized Vehicles Is Prohibited on the Following Public Lands: T33N, R24E: Sec2; Sec3; Sec4; Sec9; Sec10; Sec11; and T33½N, R24E: Sec33; Sec34; Sec35. These legally described areas within the event boundary are closed during the Burning Man event, from August 25, 2003 to September 1, 2003, with the following exceptions: participant arrival and departure on designated routes; art vehicles registered with Burning Man; Black Rock City LLC staff and support; BLM, medical, law enforcement, and firefighting vehicles and motorized skateboards with or without handlebars. Art vehicles must register with Burning Man/Black Rock City LLC and must provide evidence of registration at all times.

The Following Public Lands are Closed to Public Use: T33N, R24E: NE¼S½Sec4; SE¼Sec5; NE¼S½Sec8; Sec9; W½Sec10; N½NW¼Sec15; N½Sec16; and T33½N, R24E: SE¼Sec33; SW¼Sec34. For event safety near the entrance road and airstrip, playa areas southwest, west and northwest of the event are closed during the Burning Man event period, from 0001 hours August 25, 2003 to 2200 hours September 1, 2003. The area surrounding the event within fifty yards immediately outside the perimeter fence, with exception of the event entrance, is closed to all public uses from 0001 hours August 22, 2003 to 2200 September 1, 2003. These areas are closed to all uses except those performed by BLM personnel, law enforcement, emergency medical services, and Burning Man staff as designated by the authorized BLM officer.

Black Rock City LLC/Burning Man will abide by fire restriction orders, except for the following when officially approved by Black Rock City LLC in coordination with BLM: Official art burns, authorized event fireworks, and other authorized fires using Black Rock City LLC/Burning Man-supplied fire barrels or approved platforms. Fire Restriction Orders may be in effect pursuant to 43 CFR 9212.2, 36 CFR 261.50(a)(b) for all lands managed by the BLM, Winnemucca Field Office.

The use, sale or possession of personal fireworks within the Burning Man event perimeter fence is prohibited on the following public lands from August 25th, 2003, through September 1, 2003: T33N, R24E: Sec2; Sec3; Sec4; Sec9; Sec10; Sec11; and T33½N, R24E: Sec33; Sec34; Sec35, with the exception of fireworks approved by Black Rock City LLC and used as part of an official Burning Man art burn event.

Possession of Firearms Is Prohibited on the Following Public Lands from August 11, 2003, through September 15, 2003: T33N, R24E: Sec2; Sec3; Sec4; Sec9; Sec10; Sec11; and T33½N, R24E: Sec33; Sec34; Sec35. This closure is in effect inside the Burning Man event perimeter fence, with the exception of county, state and federal certified law enforcement personnel under the color of law. “Firearm” means any device designed to be used as a weapon from which a projectile may be expelled through the barrel by the force of any explosion or other form of combustion (Nevada Revised Statute 202.253).

Discharge of Firearms is Prohibited on the Following Public Lands from August 11, 2003, through September 15, 2003: T33N, R24E: Sec1; Sec2; Sec3; Sec4; Sec 5; E½Sec6; Sec8; Sec9; Sec10; Sec11; Sec12; N½SW¼Sec13; Sec14; Sec15; Sec16; E½NW¼Sec17; NE¼Sec21; N½Sec22; NW¼Sec23; and T33N, R25E: Sec4; W½NW¼NE¼Sec9; and T33½N, R24E: Sec25; Sec26; Sec27; Sec28; Sec29; Sec32; Sec33; Sec34; Sec35; Sec36; T34N, R24E: NE¼S½Sec33; Sec34; Sec35; S½Sec36; T34N, R25E: Sec33. This closure description applies with the exception of law enforcement officers under color of law.

Aircraft are prohibited from landing, taking off, and taxiing on the following public lands from 0600 hours on August 22, 2003, through September 1, 2003 at 2200 hours: T33N, R23E: E½Sec25; and T33N, R24E: Sec1; Sec2; Sec3; Sec4; SE¼Sec5; NE¼S½Sec8; Sec9; Sec10; Sec11; Sec12; W½Sec13; Sec14; Sec15; Sec16; Sec17; NE¼S½Sec18; Sec19; Sec20; Sec21; N½Sec22; NW¼Sec28; Sec29; NE¼Sec30; and T33N, R25E: N½Sec2; N½Sec3; Sec4; and T33½N, R24E: Sec25; Sec26; Sec27; Sec28; Sec33; Sec34; Sec35; Sec36; and T34N, R24E: NE¼S½Sec23; Sec24; Sec25; Sec26; SE¼Sec27; E½Sec33; Sec34; Sec35; Sec36; and T34N, R25E: Sec16; Sec21; S½Sec22; SW¼Sec26; Sec27; Sec28; Sec33; Sec34; Sec35. This closure applies to the playa for approximately five miles in all directions from the event boundary during the event, with the exception of an authorized event landing strip for Burning Man staff and participants, law enforcement and emergency medical services. This airstrip is the only location where Burning Man staff and participant aircraft may land. Emergency aircraft such as Care Flight, Sheriff's Office or Medical Ambulance Transport System helicopters engaged in official business may land in other locations when circumstances require it.

A map showing these temporary closures, restrictions and prohibitions is available from the following BLM office: BLM-Winnemucca Field Office, 5100 East Winnemucca Blvd, Winnemucca, Nevada 89445.

The map may also be viewed on the Field Office Web site at: http://www.nv.blm.gov/winnemucca.

EFFECTIVE DATES: August 11, 2003 to September 15, 2003.

FOR FURTHER INFORMATION CONTACT: Dave Cooper, National Conservation Area Manager, Bureau of Land Management, Winnemucca Field Office, 5100 E. Winnemucca Blvd., Winnemucca, NV 89445, telephone: (775) 623-1500.

Authority: 43 CFR 8364.1.

Penalty: Any person failing to comply with the closure orders may be subject to imprisonment for not more than 12 months, or a fine in accordance with the applicable provisions of 18 U.S.C. 3571, or both.

Terry A. Reed,
Field Manager.

[FR Doc. 03-17806 Filed 7-10-03; 11:23 am]

BILLING CODE 4310-HC-P